DEPARTMENT OF JUSTICE

Office of Justice Programs

[OJP (NIJ) Docket No. 1569]

National Institute of Justice Interview Room Recording Systems and License Plate Readers Workshop

AGENCY: National Institute of Justice.

ACTION: Notice of the Interview Room Recording Systems and License Plate Readers Workshops.

SUMMARY: The National Institute of Justice (NIJ) and the International Association of Chiefs of Police (IACP) are hosting two workshops in conjunction with the 118th Annual IACP Conference in Chicago, Ill. The focus of the workshops is the development of NIJ performance standards for Interview Room Recording Systems and License Plate Readers used by law enforcement agencies. Sessions are intended to inform manufacturers, test laboratories, certification bodies and other interested parties of these standards development efforts. Attendees in each workshop will be provided with an overview of the NIJ standards development process, work to date on the effort and a projected timeline for completion.

Please access the following webpage to register for the Interview Room Video Systems workshop: http://www.surveymonkey.com/s/interviewroom_workshop_reg.

Please access the following webpage to register for the License Plate Reader workshop: http://www.surveymonkey.com/s/ALPR_workshop_reg.

Note: The meeting room capacity is limited to 80 attendees per session and registration will close once this limit is reached.

DATES: Both workshops will be held on Saturday, Oct. 22, 2011. The session for Interview Room Recording Systems will take place from 8 to 9:30 a.m. The License Plate Reader session will take place from 10 to 11:30 a.m.

ADDRESSES: The workshops will take place at the Exchange Meeting Room of the InterContinental Chicago, 505 N. Michigan Ave., Chicago, IL 60611.

FOR FURTHER INFORMATION CONTACT: Ian Hamilton at hamilton@theiacp.org.

John H. Laub,
Director, National Institute of Justice.

[FR Doc. 2011-25099 Filed 9-28-11; 8:45 am]

BILLING CODE 4410-18-P